DEPARTMENT OF AGRICULTURE

Food and Nutrition Service

Agency Information Collection Activities: Proposed Collection: Comment Request—Professional Standards Training Tracker Tool

AGENCY: Food and Nutrition Service (FNS), USDA.

ACTION: Notice.

SUMMARY: In accordance with the Paperwork Reduction Act of 1995, this notice invites the general public and other public agencies to comment on this proposed information collection. This collection is a new collection for assisting state agencies to record, track and manage the required training hours in four major areas (Nutrition, Operations, Administration, Communications and Marketing) to meet the requirements of the Healthy Hunger Free Kids Act (HHFKA) of 2010 Professional Standards Rule. The HHFKA (section 306) requires Professional Standards for state and local school district nutrition professionals. In addition to hiring standards, mandatory annual training will be required for all individuals involved in preparing school meals. To meet the training requirements and assist in keeping track of training courses, FNS is developing a web-based application tool with a SQL-server database which will be made available to local educational agencies and school food authorities through the FNS public Web site. While training requirements are mandatory, using the USDA Tracking Tool is voluntary. School nutrition professionals can use any method to track and manage their trainings. These resources will facilitate compliance with HHFKA requirements and will be provided at no cost to the state, district, or individuals.

DATES: Written comments must be received on or before August 15, 2016.

ADDRESSES: Comments are invited on: (a) Whether the proposed collection of information is necessary for the proper performance of the functions of the agency, including whether the information shall have practical utility; (b) the accuracy of the agency's estimate of the burden of the proposed collection of information, including the validity of the methodology and assumptions that were used; (c) ways to enhance the quality, utility, and clarity of the information to be collected; and (d) ways to minimize the burden of the collection of information on those who are to respond, including use of appropriate automated, electronic, mechanical, or other technological collection techniques or other forms of information technology.

Comments may be sent to: Kaushalya Heendeniya, Food and Nutrition Service, U.S. Department of Agriculture, 3101 Park Center Drive, Room 630, Alexandria, VA 22302. Comments may also be submitted via fax to the attention of Kaushalya Heendeniya at 703-305-2549 or via email to kaushalya.heendeniya1@fns.usda.gov. Comments will also be accepted through the Federal eRulemaking Portal. Go to http://www.regulations.gov, and follow the online instructions for submitting comments electronically.

All responses to this notice will be summarized and included in the request for Office of Management and Budget approval. All comments will be a matter of public record.

FOR FURTHER INFORMATION CONTACT: Requests for additional information or copies of this information collection should be directed to Kaushalya Heendeniya at 703-305-0037.

SUPPLEMENTARY INFORMATION:

Title: Professional Standards Training Tracker Tool.

Form Number: 0584—NEW.

Expiration Date: Not Yet Determined.

Type of Request: New Collection.

Abstract: The Healthy Hunger Free Kids Act of 2010 (section 306) requires Professional Standards for state and local school district nutrition professionals. In addition to hiring standards, mandatory annual training will be required for all individuals involved in preparing school meals. To meet the training requirements and assist in keeping track of training and training courses, FNS is developing a web-based application tool with a SQL-server database which will be made available to local educational agencies and school food authorities through the FNS public Web site, with a login authentication. These resources will facilitate compliance with HHFKA requirements and will be provided at no cost to the state, district, or individuals. In addition, there will be a mobile friendly version of this Professional Standards Training Tracking Tool application to ensure easy usage and accessibility across mobile devices. The application will be compatible with all mobile operating systems (iOS, Android, and Windows).

The user will be able to create a user profile with the following information:

• School District/Address

• School Name/Address

• Individual Name—Contact Information/Email address

• Title of Individual or Role in school nutrition program

• Hiring Date

The user will be logging in the following information:

• Key Area

• Training Topic

• Learning Objective

• Training Title

• Training Hours/Minutes

• Date of Training

• Provider or Organization offering training, including state, local or national

• Level of Training by employee position (e.g. employee, manager, etc.)

The user will have the ability to enter multiple names for one specific training without having to repeatedly enter training information. Certificates of completion can be printed. The tool will also provide the user the ability to export and save results in multiple file formats, including PDF (.pdf), Excel and Word 2000 or higher (.docx). It will have a user-centered, simple, intuitive interface. Streamlined and intuitive navigation will be offered for easy access to all functionality.

Affected Public: Individual/Households and State, Local, and Tribal Government. Respondent groups include local educational agencies, school food authorities, and school nutrition professionals.

Estimated Number of Respondents: The total estimated number of respondents is 10,006. This includes 6 State agency personnel and 10,000 school nutrition professionals who voluntarily choose to utilize this tracking tool. All respondents will be offered a 60 minute training webinar.

Estimated Number of Responses per Respondent: Total estimated number of responses per respondent across the entire collection is six. The estimated number of responses per respondent for the tracking tool is five. The tracking tool users will be first required to create their user profile which will be saved for future use. It is estimated that the user will be updating and managing their records on a quarterly basis. The estimated number of responses per respondent for the training webinar is one.

Estimated Total Annual Responses: 60,036.

Estimated Time per Response: The estimated time per response across the entire collection is approximately 16 minutes (0.27 hours). For the training tracking tool, the estimated time of response varies from five to ten minutes depending on familiarity of the tool and the amount of reports created with an average estimated time of 7.5 minutes (0.125 hours) for all participants. The training webinar of 60 minutes (1 hour) will be available for all participants.

Estimated Total Annual Burden on Respondents: 16,259.75 hours (rounded to 16,260 hours). See the table below for estimated total annual burden for each type of respondent.

Respondent | Estimated # respondent | Responses annually per respondent | Total annual responses (col. b × c) | Estimated avg. # of hours per response | Estimated total hours (col. d × e)
Reporting Burden for State, Local, and Tribal Govt
State agency Personnel | 6 | 5 | 30 | 0.125 | 3.75
Training Webinar | 6 | 1 | 6 | 1 | 6
Subtotal for State, Local, and Tribal Government | 6 | 6 | 36 | 0.27 | 9.75
Reporting Burden for Individuals/Households
School Nutrition Professionals | 10,000 | 5 | 50,000 | 0.125 | 6,250
Training Webinar | 10,000 | 1 | 10,000 | 1 | 10,000
Subtotal for Individuals/Households | 10,000 | 6 | 60,000 | 0.27 | 16,250
Total Reporting Burden | 10,006 |  | 60,036 |  | 16,259.75

Dated: June 2, 2016.
Audrey Rowe,
Administrator, Food and Nutrition Service.

[FR Doc. 2016-14008 Filed 6-13-16; 8:45 am]

BILLING CODE 3410-30-P